DEPARTMENT OF AGRICULTURE

Agricultural Marketing Service

7 CFR Part 989

[Doc. No. AMS-SC-19-0006; SC19-989-1]

Raisins Produced From Grapes Grown in California; Order Amending Marketing Order No. 989; Corrections

AGENCY: Agricultural Marketing Service, USDA.

ACTION: Correcting amendment.

SUMMARY: This amendment implements corrections to typographical and miscellaneous errors in Marketing Order 989, as amended, regulating the handling of raisins produced from grapes grown in California. These changes include removing one duplicate use of the word “Committee” and standardizing several occurrences of non-hyphenated words to their hyphenated form. This document is necessary to inform the public of these non-substantive amendments to the marketing order.

DATES: Effective July 1, 2019.

FOR FURTHER INFORMATION CONTACT: Kathie Notoro, Marketing Specialist or Terry Vawter, Regional Director, California Marketing Field Office, Marketing Order and Agreement Division, Specialty Crops Program, AMS, USDA; Telephone: (559) 538-1672, Fax: (559) 487-5906, or Email: Kathie.Notoro@usda.gov or Terry.Vawter@usda.gov.

Small businesses may request information on complying with this regulation by contacting Richard Lower, Marketing Order and Agreement Division, Specialty Crops Program, AMS, USDA, 1400 Independence Avenue SW, STOP 0237, Washington, DC 20250-0237; Telephone: (202) 720-2491, Fax: (202) 720-8938, or Email: Richard.Lower@usda.gov.

SUPPLEMENTARY INFORMATION: This action makes corrections to Marketing Order 989, as amended, (7 CFR part 989) (referred to as the “marketing order”). The amendments will have no substantive impact and are of a minor and administrative nature dealing with deletion of a duplicate occurrence of a word and standardizing the use of hyphenation. The amendments are effective July 1, 2019. These amendments do not require action by any person or entity regulated by the marketing order.

List of Subjects in 7 CFR Part 989

Grapes, Marketing agreements, Raisins, Reporting and recordkeeping requirements.

For the reasons set forth in the preamble, 7 CFR part 989 is corrected by making the following correcting amendments:

PART 989—RAISINS PRODUCED FROM GRAPES GROWN IN CALIFORNIA

1. The authority citation for 7 CFR part 989 continues to read as follows:

Authority: 7 U.S.C. 601-674.

§ 989.62 [Amended]

2. Amend § 989.62 as follows:

a. Designating the text of paragraph (b) as paragraph (b)(1);

b. Designating the undesignated text following newly designated paragraph (b)(1) as paragraph (b)(2); and

c. Removing “CommitteeCommittee” and adding in its place “Committee” in newly designated paragraph (b)(2).

§ 989.158 [Amended]

3. Amend § 989.158(c)(3) by removing the word “interplant” and adding in its place “inter-plant” and removing the word “interpacker” and adding in its place “inter-packer” in the paragraph heading.

4. Amend § 989.159 as follows:

a. In paragraph (b)(1), removing “(i)” and “(ii)”;

b. Revising paragraph (g)(1);

c. Redesignating paragraphs (g)(2)(i)(a) through (f) as paragraphs (g)(2)(i)(A) through (F);

d. In newly redesignated paragraph (g)(2)(i)(B), removing the word “interpacker” and adding in its place “inter-packer;”

e. In newly redesignated paragraph (g)(2)(i)(E), removing “(1),” “(2),” and “(3);”

c. Revising paragraph (g)(2)(ii); and

d. In paragraph (g)(2)(iv), removing “(a),” “(b),” and “(c).”

The revisions read as follows:

§ 989.159 Regulation of the handling of raisins subsequent to their acquisition.

* * * * *

(g) * * *

(1) Recovery of raisins. (i) For the purposes of §§ 989.59(f) and 989.158(c)(4), a packer may recover raisins from:

(A) Residual raisins from his or her processing of standard raisins;

(B) Any raisins acquired as standard raisins which fail to meet the applicable outgoing grade and condition standards;

(C) Any raisins rejected on a condition inspection; and

(D) Residual raisins from reconditioning of off-grade raisins.

(ii) Provided, That such recovery under paragraphs (g)(1)(i)(B) and (C) of this section must occur without blending, if the failure to meet the minimum grade standards for packed raisins is due to a defect or defects affecting the wholesomeness of the raisins: And provided further, That such recovery under paragraph (g)(1)(i)(D) of this section must occur without blending, except as permitted in § 989.158(c)(4)(ii), and the weight of standard raisins in residual from off-grade raisins shall be credited equitably to the same lot or lots from which the residual was obtained. The provisions of this paragraph (g)(1) are not intended to excuse any failure to comply with all applicable food and sanitary rules and regulations of city, county, state, federal, or other agencies having jurisdiction.

(2) * * *

(ii) Each such application shall, in addition to the agreement specified in paragraph (g)(2)(iii) of this section, include as a minimum:

(A) The names and addresses of the handler, the buyer, the consignee, and the user;

(B) The quantity of off-grade and other failing raisins and the quantity of raisins residual material to be shipped or otherwise disposed of;

(C) A description of such off-grade raisins and other failing raisins and raisin residual material, as to type or origin;

(D) The present location of such raisins and raisin residual material;

(E) The particular use to be made of the raisins; and

(F) A copy of the sales contract, which may be on a form furnished by the Committee, wherein the buyer agrees:

(1) Not to ship such raisins or raisin residual material to points outside the continental United States or to Alaska;

(2) To dispose of the raisins or raisin residual material only for uses in eligible non-normal outlet(s); and

(3) To maintain complete, accurate, and current records regarding his or her dealings in raisins, retain the records for at least 2 years, and permit representatives of the Committee and of the Secretary of Agriculture to examine all of his or her books and records relating to raisins and residual material.

* * * * *

§ 989.173 [Amended]

5. Amend § 989.173 as follows:

a. Removing the word “interhandler” and adding in its place “inter-handler” in paragraph (b)(3) introductory text and paragraph (d) heading;

b. Removing the word “nonfood” and adding in its place “non-food” in the heading of paragraph (b)(5);

c. Designating the text of paragraph (b)(5)(vi) as paragraph (b)(5)(vi)(A);

d. Designating the undesignated paragraph following newly designated paragraph (b)(5)(vi)(A) as paragraph (b)(5)(vi)(B);

e. Removing the word “nonacquiring” and adding in its place “non-acquiring” in newly designated paragraph (b)(5)(vi)(B); and

f. Removing the words “organically produced” everywhere they appear and adding in their place “organically-produced” in paragraphs (c)(1)(iii), (d)(1)(iii), and (f).

Dated: June 4, 2019.
Bruce Summers,
Administrator, Agricultural Marketing Service.

[FR Doc. 2019-12019 Filed 6-27-19; 8:45 am]

BILLING CODE 3410-02-P